DEPARTMENT OF ENERGY

Federal Energy Regulatory Commission

[Project No. 2503-154]

Duke Energy Carolinas, LLC; Notice of Application Accepted for Filing, Soliciting Motions To Intervene and Protests, Ready for Environmental Analysis, and Soliciting Comments, Recommendations, Preliminary Terms and Conditions, and Preliminary Fishway Prescriptions

Take notice that the following hydroelectric application has been filed with the Commission and is available for public inspection.

a. Type of Application: Major License.

b. Project No.: 2503-154.

c. Date filed: August 27, 2014.

d. Applicant: Duke Energy Carolinas, LLC.

e. Name of Project: Keowee-Toxaway Hydroelectric Project.

f. Location: The existing Keowee-Toxaway Project is located on the Toxaway, Keowee, and Little Rivers in Oconee County and Pickens County, South Carolina and Transylvania County, North Carolina. The Keowee-Toxaway Project occupies no federal lands.

g. Filed Pursuant to: Federal Power Act 16 U.S.C. 791 (a)—825(r).

h. Applicant Contact: Jennifer Huff, Duke Energy Carolinas, LLC, 526 S. Church Street, Charlotte, NC 28202; Telephone (980) 373-4392.

i. FERC Contact: Stephen Bowler, Telephone (202) 502-6861, and email stephen.bowler@ferc.gov.

j. Deadline for filing motions to intervene and protests, comments, recommendations, preliminary terms and conditions, and preliminary prescriptions: 60 days from the issuance date of this notice; reply comments are due 105 days from the issuance date of this notice.

The Commission strongly encourages electronic filing. Please file motions to intervene, protests, comments, recommendations, preliminary terms and conditions, and preliminary fishway prescriptions using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-2503-154.

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application has been accepted for filing and is now ready for environmental analysis.

l. The Keowee-Toxaway Project consists of two developments: The upstream, 710.1-MW Jocassee Development and the downstream, 157.5-megawatt (MW) Keowee Development owned by Duke Energy Carolinas, LLC. The Jocassee Development includes: A 385-foot-high, 1,800-foot-long main earthfill dam with top elevation at 1,125 feet above mean sea level (msl); two circular intake structures passing water to two water conveyance tunnels leading to four turbines; two saddle dikes (825 feet and 500 feet in length); a partially-open powerhouse just downstream of the dam containing four reversible pump-turbine units authorized for an installed capacity of 177.5 MW each; a 50-foot-wide, concrete, ogee-type spillway with two Taintor gates; a 230-kilovolt (kV) transmission system; and appurtenant facilities. The maximum hydraulic capacity is 36,200 cfs.

The Jocassee Development is operated as a pumped-storage project, with the pump-turbines used for generating power during peak demand periods (typically during the day), and for pumping water back through the tunnels to Lake Jocassee (typically during the night). The pumps have a capacity of 32,720 cfs. The Jocassee Development is also the lower lake for the 1,065 MW Bad Creek Hydroelectric Project No. 2740, which is also owned by Duke Energy Carolinas, LLC, but is not part of this relicensing.

The Keowee Development includes: A 165-foot-high, 3,500-foot-long earthfill dam impounding the Keowee River, and a 165-foot-high, 1,800-foot-long earthfill dam impounding the Little River; four saddle dikes (1,900 feet, 225 feet, 350 feet, and 650 feet in length); an intake dike at the Oconee Nuclear Station; a 176-foot wide, concrete, ogee-type spillway with four Taintor gates; a concrete intake structure leading to two penstocks; a concrete powerhouse at the base of Keowee dam containing two Francis-type, mixed flow turbine-generator units authorized for an installed capacity of 78.8 MW each; a 150-foot by 500-foot concrete tailrace; a 230-kV transmission system; and appurtenant facilities. The maximum hydraulic capacity is 24,920 cfs.

m. A copy of the application is available for review at the Commission in the Public Reference Room or may be viewed on the Commission's Web site at http://www.ferc.gov using the “eLibrary” link. Enter the docket number excluding the last three digits in the docket number field to access the document. For assistance, contact FERC Online Support. A copy is also available for inspection and reproduction at the address in item h above.

Register online at http://www.ferc.gov/docs-filing/esubscription.asp to be notified via email of new filings and issuances related to this or other pending projects. For assistance, contact FERC Online Support.

n. Anyone may submit comments, a protest, or a motion to intervene in accordance with the requirements of Rules of Practice and Procedure, 18 CFR 385.210, .211, and .214. In determining the appropriate action to take, the Commission will consider all protests or other comments filed, but only those who file a motion to intervene in accordance with the Commission's Rules may become a party to the proceeding. Any comments, protests, or motions to intervene must be received on or before the specified comment date for the particular application.

All filings must (1) bear in all capital letters the title “PROTEST”, “MOTION TO INTERVENE”, “COMMENTS,” “REPLY COMMENTS,” “RECOMMENDATIONS,” “PRELIMINARY TERMS AND CONDITIONS,” or “PRELIMINARY FISHWAY PRESCRIPTIONS;” (2) set forth in the heading the name of the applicant and the project number of the application to which the filing responds; (3) furnish the name, address, and telephone number of the person protesting or intervening; and (4) otherwise comply with the requirements of 18 CFR 385.2001 through 385.2005. All comments, recommendations, terms and conditions or prescriptions must set forth their evidentiary basis and otherwise comply with the requirements of 18 CFR 4.34(b). Agencies may obtain copies of the application directly from the applicant. A copy of any protest or motion to intervene must be served upon each representative of the applicant specified in the particular application. A copy of all other filings in reference to this application must be accompanied by proof of service on all persons listed in the service list prepared by the Commission in this proceeding, in accordance with 18 CFR 4.34(b) and 385.2010.

o. Procedural Schedule:

The application will be processed according to the following revised Hydro Licensing Schedule. Revisions to the schedule may be made as appropriate.

Milestone | Target date
Filing of recommendations, preliminary terms and conditions, and preliminary fishway prescriptions | April 2015.
Commission issues Draft EA | October 2015.
Comments on Draft EA | November 2015.
Modified Terms and Conditions | January 2016.
Commission Issues Final EA | March 2016.

p. Final amendments to the application must be filed with the Commission no later than 30 days from the issuance date of this notice.

q. A license applicant must file no later than 60 days following the date of issuance of the notice of acceptance and ready for environmental analysis provided for in 5.22: (1) A copy of the water quality certification; (2) a copy of the request for certification, including proof of the date on which the certifying agency received the request; or (3) evidence of waiver of water quality certification.

Dated: February 5, 2015.
Kimberly D. Bose,
Secretary.

[FR Doc. 2015-02935 Filed 2-11-15; 8:45 am]

BILLING CODE 6717-01-P